DEPARTMENT OF LABOR

Employment and Training Administration

[TA-W-60,572; TA-W-60,572A]

Senco Products, Inc. Plant 1 and 2; Cincinnati, OH; Notice of Termination of Investigation

Pursuant to Section 221 of the Trade Act of 1974, as amended, an investigation was initiated on December 11, 2006 in response to a petition filed on behalf of workers at Senco Products, Plant 1, Cincinnati, Ohio (TA-W-60,572) and Senco Products, Plant 2, Cincinnati, Ohio (TA-W-60,572A).

The petitioning workers are covered by a certification of eligibility to apply for worker adjustment assistance and alternative trade adjustment assistance issued on December 12, 2006 (TA-W-60,250 and TA-W-60,250A). Consequently, further investigation in this case would serve no purpose, and the investigation has been terminated.

Signed at Washington, DC, this 12th day of December 2006
Linda G. Poole,
Certifying Officer, Division of Trade Adjustment Assistance.

[FR Doc. E6-21785 Filed 12-20-06; 8:45 am]

BILLING CODE 4510-30-P